LIBRARY OF CONGRESS

Copyright Office

37 CFR Part 202

[Docket No. 2002-2]

Registration of Claims to Copyright: Group Registration of Contributions to Periodicals

AGENCY: Copyright Office, Library of Congress.

ACTION: Final rule.

SUMMARY: This amendment publishes as a final rule an existing practice which makes it easier for applicants to register a group of contributions to periodicals by expanding the number of acceptable deposits relating to registering on a single application groups of contributions to periodicals. The expanded number of acceptable deposits is both consistent with the intent of copyright law and the existing practices.

EFFECTIVE DATE: March 7, 2002.

FOR FURTHER INFORMATION CONTACT: Kent Dunlap, Principal Legal Advisor for the General Counsel, Telephone: (202) 707-8380. Fax: (202) 707-8366.

SUPPLEMENTARY INFORMATION: Section 408(c)(2) of title 17 authorizes the Register of Copyrights to establish a procedure permitting a single registration for groups of contributions to periodicals published by the same author within a twelve month period. Current regulations designate the deposit as “one copy of the entire issue of the periodical, or of the entire section in the case of a newspaper, in which each contribution was first published.” 37 CFR 202.3(b)(7)(i)(E).

The above designated deposit proved a hardship for many applicants who did not have immediate access to either the entire issue or the entire section in which each contribution was first published. As a result over the past several years, the Examining Division has permitted a number of alternative deposits under the special relief provision of the deposit regulation. Among the alternatives were photocopies of the contribution or copies of the contribution cut or torn from the collective work. These alternative deposits permitted under special relief were broadly consistent with the wide variety of deposits see, e.g. 66 FR 37142 (July 17, 2001), the Office has accepted since 1978 in compliance with the spirit of administrative flexibility Congress indicated the Register had in order to ensure that the deposit requirement was reasonable and non-burdensome for the applicant. See generally H.R. Rep. No. 94-1476 150-155 (1976). Permitting deposit without the entire issue or periodical will not diminish the public record since the application form used for these works elicits specific information on the periodical in which the contribution was published.

This regulation is issued without inviting public comment for these reasons: the regulation confers a positive benefit on the public affected; the regulation establishes an optional procedure only; and the Copyright Office prepared the regulation based on its past experience in administering the deposit provisions for this kind of works including its experience with the types of alternative deposits frequently submitted by applicants. By this Federal Register notice, the Copyright Office is merely incorporating these alternative deposits for group registration of contributions to periodicals into the relevant deposit regulation.

List of Subjects in 37 CFR Part 202

Claims to copyright, Copyright registration, Registration of claims to copyright.

Final Regulation

On consideration of the foregoing, the Copyright Office is amending part 202 of 37 CFR, chapter II in the manner set forth below.

PART 202—REGISTRATION OF CLAIMS TO COPYRIGHT

1. The authority citation for part 202 continues to read as follows:

Authority: 17 U.S.C. 702.

2. Section 202.3(b)(7)(i)(E) is revised to read as follows:

§ 202.3 Registration of copyright.

* * * * *

(b) * * *

(7) * * *

(i) * * *

(E) The deposit accompanying the application must consist of one of the following: one copy of the entire issue of the periodical, or, in the case of a newspaper, the entire section containing the contribution; tear sheets or proof copies of the contribution; a photocopy of the contribution itself, or a photocopy of the entire page containing the contribution; the entire page containing the contribution cut or torn from the collective work; the contribution cut or torn from the collective work; or photographs or photographic slides of the contribution or entire page containing the contribution as long as all contents of the contribution to be registered are clear and legible.

Dated: February 26, 2002.
Marybeth Peters,
Register of Copyrights.
Approved by:
James H. Billington,
Librarian of Congress.

[FR Doc. 02-5456 Filed 3-6-02; 8:45 am]

BILLING CODE 1410-30-P